NATIONAL FOUNDATION ON THE ARTS AND THE HUMANITIES

Institute of Museum and Library Services

Submission for OMB Review, Comment Request, Proposed Collection: Research for the Museum Grants for American Latino History and Culture Program

AGENCY: Institute of Museum and Library Services.

ACTION: Submission for OMB review, request for comments, collection of information.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the Research for the Museum Grants for American Latino History and Culture Program.

A copy of the proposed information collection request can be obtained by contacting the individual listed below in the FOR FURTHER INFORMATION CONTACT section of this Notice.

DATES: Written comments must be submitted to the office listed in the ADDRESSES section below on or before April 09, 2023.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Gibran Villalobos, Project Manager, Office of Museum Services, Institute of Museum and Library Services, 955 L'Enfant Plaza North SW, Suite 4000, Washington, DC 20024-2135. Gibran Villalobos may be reached by telephone at 202-653-4649, or by email at gvillalobos@imls.gov. Persons who are deaf or hard of hearing (TTY users) may contact IMLS at 202-207-7858 via 711 for TTY-Based Telecommunications Relay Service.

SUPPLEMENTARY INFORMATION: The Institute of Museum and Library Services is the primary source of federal support for the nation's libraries and museums. We advance, support, and empower America's museums, libraries, and related organizations through grant making, research, and policy development. To learn more, visit www.imls.gov.

Current Actions: This Notice proposes the clearance of Research for Grants for American Latino History and Culture Program. The research is intended to inform IMLS as it designs and implements a new grantmaking program to build the capacity of American Latino museums and education organizations nationwide. The ALHC Program was authorized for creation by the National Museum of the American Latino Act (NMALA) in 2020 (H.R. 2420)—the same Act that authorized creation of a new Smithsonian National Museum of the American Latino. This proposed research will be the first for the ALHC Program to help ensure its relevance to the field and accessibility to stakeholders as well as the measurement of project outcomes. Coupled with a secondary data collection effort (which will include reviewing administrative records, museum/nonprofit grantee databases, and a literature review), this study will include three specific primary data collection activities: community listening sessions, semi-structured interviews, and a survey of ALHC Program stakeholders.

The 60-day Notice was published in the Federal Register on November 29, 2022 (87 FR 73336). The agency received no comments under this Notice.

Agency: Institute of Museum and Library Services.

Title: Research for the Museum Grants for American Latino History and Culture Program.

OMB Control Number: 3137-NEW.

Agency Number: 3137.

Affected Public: Museum and cultural professionals at organizations that would be interested in seeking public funding through a new IMLS Museum Grants for American Latino History and Culture Program, and other stakeholders with expertise in the American Latino Museum History and Culture space.

Total Number of Respondents: 400.

Frequency of Response: Once per request.

Average Minutes per Response: 46.

Total Burden Hours: 305.

Total Annualized Capital/Startup Costs: n/a.

Total Annual Cost Burden: $11,327.12.

Total Annual Federal Costs: $45,006.25.

Dated: March 07, 2023.
Suzanne Mbollo,
Grants Management Specialist, Institute of Museum and Library Services.

[FR Doc. 2023-05028 Filed 3-10-23; 8:45 am]

BILLING CODE 7036-01-P